DEPARTMENT OF THE INTERIOR

Bureau of Land Management

[WY-957-07-1420-BJ-TRST]

Notice of Filing of Plats of Survey, Wyoming

AGENCY: Bureau of Land Management, Interior.

SUMMARY: The Bureau of Land Management (BLM) is scheduled file to the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plat and field notes representing the dependent resurvey of a portion of the subdivisional lines and a portion of the subdivision of section 17, and the metes and bounds survey of Parcel A, section 17, Township 2 South, Range 1 East, of the Wind River Meridian, Wyoming, Group No. 759, was accepted August 29, 2007.

The plat and field notes representing the dependent resurvey of portions of the Wind River Meridian, south boundary, subdivisional lines and adjusted meanders of the Wind River, and the survey of the subdivision of certain sections, and the metes and bounds survey of Parcel A, Section 29, Township 3 North, Range 1 East, of the Wind River Meridian, Wyoming, Group No. 761, was accepted August 29, 2007.

The plat and field notes representing the dependent resurvey of portions of the subdivisional lines and portions of the subdivision of sections 10 and 15, and the survey of the subdivision of sections 10 and 15, Township 1 South, Range 4 East, of the Wind River Meridian, Wyoming, Group No. 760, was accepted September 4, 2007.

Copies of the preceding described plat and field notes are available to the public at a cost of $1.10 per page.

Dated: September 7, 2007.
John P. Lee,
Chief Cadastral Surveyor, Division of Support Services.

[FR Doc. E7-18047 Filed 9-12-07; 8:45 am]

BILLING CODE 4467-22-P